GENERAL SERVICES ADMINISTRATION

48 CFR Parts 547 and 552

[GSAR Amendment 2009-06; GSAR Case 2006-G518 (Change 34); Docket 2008-0007; Sequence 2]

RIN 3090-AI52

General Services Administration Acquisition Regulation; GSAR Case 2006-G518; Rewrite of GSAR Part 547, Transportation

AGENCIES: General Services Administration (GSA), Office of the Chief Acquisition Officer.

ACTION: Final rule.

SUMMARY: The General Services Administration (GSA) is amending the General Services Administration Acquisition Regulation (GSAR) by deleting and reserving Part 547, Transportation.

DATES: Effective Date: June 29, 2009

FOR FURTHER INFORMATION CONTACT: For clarification of content, contact Jeritta Parnell, Procurement Analyst, at (202) 501-4082. For information pertaining to status or publication schedules, contact the Regulatory Secretariat (VPR), Room 4041, GS Building, Washington, DC, 20405, (202) 501-4755. Please cite Amendment 2009-06, GSAR case 2008-G518 (Change 34).

SUPPLEMENTARY INFORMATION:

A. Background

GSA published a proposed rule, with request for comments, in the Federal Register at 73 FR 32277 on June 6, 2008. No comments were received in response to the proposed rule. Therefore, the proposed rule is converted to final with no change. The information contained in Subpart 547.3—Transportation in Supply Contracts, sections 547.300, 547.303, 547.304, 547.305, and 547.370, is being deleted. In addition, clauses 552.247-70, Placarding Railcar Shipments, and 552.247-71, Diversion of Shipment Under f.o.b. Destination Contracts, are being deleted from 552.547.

This is not a significant regulatory action and, therefore, was not subject to review under Section 6(b) of Executive Order 12866, Regulatory Planning and Review, dated September 30, 1993. This rule is not a major rule under 5 U.S.C. 804.

B. Regulatory Flexibility Act

The General Services Administration certifies that this final rule will not have a significant economic impact on a substantial number of small entities within the meaning of the Regulatory Flexibility Act, 5 U.S.C. 601, et seq., because the rule deletes information and clauses that are deemed unnecessary and therefore, has no impact.

C. Paperwork Reduction Act

The Paperwork Reduction Act does not apply because the changes to the GSAR do not impose recordkeeping or information collection requirements, or otherwise collect information from offerors, contractors, or members of the public that require approval of the Office of Management and Budget under 44 U.S.C. Chapter 35, et seq.

List of Subjects in 48 CFR Parts 547 and 552

Government procurement.

Dated: March 6, 2009.
Rodney P. Lantier,
Acting, Senior Procurement Executive, Office of the Chief Acquisition Officer, General Services Administration.

Therefore, under the authority of 40 U.S.C. 121(c), GSA amends 48 CFR parts 547 and 552 as set forth below:

PART—547 [Removed and Reserved]

1. Remove and reserve part 547.

2. The authority citation for 48 CFR part 552 continues to read as follows:

Authority: 40 U.S.C. 121(c).

PART 552—SOLICITATION PROVISIONS AND CONTRACT CLAUSES

552.247-70 [Removed]

3. Remove section 552.247-70.

552.247-71 [Removed]

4. Remove section 552.247-71.

[FR Doc. E9-12362 Filed 5-28-09; 8:45 am]

BILLING CODE 6820-61-S